DEPARTMENT OF JUSTICE

Notice of Lodging of Consent Decree Under the Clean Water Act

In accordance with Department policy, 28 C.F.R. 50.7, notice is hereby given that on March 26, 2002, a proposed consent decree in United States v. Texaco Exploration and Production Inc., Civil No. 2:98-CV-00213-ST, was lodged with the United States District Court for the District of Utah.

This consent decree represents a settlement of claims brought against Texaco Exploration and Production Inc. (“Texaco”) under Sections 309 and 311 of the Clean Water Act (“CWA”), 33 U.S.C. 1319 and 1321, in a civil complaint filed on March 26, 1998. The complaint alleged the following: (1) Texaco violated CWA Section 301 by unauthorized discharges of produced water and mixed oil and produced water from its oil and gas production field in Aneth, Utah (the “Aneth Unit”) into waters of the U.S.; (2) Texaco violated CWA Section 311 by discharging a mix of oil and produced water from the Aneth Unit into waters of the U.S. and adjoining shorelines; and (3) in violation of CWA Section 311(j) and 40 CFR Part 112, Texaco failed to prepare an adequate Spill Prevention Control and Countermeasure (“SPCC”) Plan, failed to adequately implement the SPCC plan, and failed to provide notification to EPA of oil spills from the Aneth Unit.

Under the proposed settlement, Texaco is required to implement a series of measures as injunctive relief including: rerouting of flowlines; construction of berming; replacement of pipelines; installation of stuffing box leak detectors on producing wells; construction of overflow tanks; and installation of emergency shutdown equipment on producing wells, the injection distribution system, and the production transfer system. Texaco will also submit a revised SPCC Plan and fully implement the Plan. Texaco is also required to provide for the construction and implementation of two Supplemental Environmental Projects, at an estimated cost of $478,700, to provide an adequate supply of drinking water and sanitary facilities for residents in the vicinity of Montezuma Creek, Utah, on the Navajo Nation. Finally, Texaco will pay a civil penalty of $369,922.

The Department of Justice will receive comments relating to the proposed consent decree for a period of thirty (30) days from the date of this publication. Comments should be addressed to the Assistant Attorney General, Environment and Natural Resources Divisions, U.S. Department of Justice, P.O. Box 7611, Washington, DC 20044-7611, and should refer to United States v. Texaco Exploration and Production Inc., DOJ Ref. 90-5-1-1-4457/1. A copy of any comments should be sent to Robert D. Mullaney, U.S. Department of Justice, 301 Howard St., Suite 1050, San Francisco, CA 94105.

The proposed consent decree may be examined at the Office of the United States Attorney, 185 South State Street, Suite 400, Salt Lake City, Utah 84111, and at the Office of Regional Counsel, U.S. Environmental Protection Agency, Region IX, 75 Hawthorne Street, San Francisco, CA 94105. A copy of the proposed Consent Decree may also be obtained by mail from the Consent Decree Library, U.S. Department of Justice, P.O. Box 7611, Washington, DC 20044-7611, or by faxing a request to Tonia Fleetwood, Department of Justice Consent Decree Library, fax no. (202) 514-0097; phone confirmation no. (202) 514-1547. There is a charge for the copy (25 cent per page reproduction cost). In requesting a copy, please enclose a check in the amount of $36.00 payable to the “U.S. Treasury.” (A copy of the decree, exclusive of attachments, may be obtained for $8.75.)

Ellen M. Mahan,
Assistant Section Chief, Environmental Enforcement Section, Environment and Natural Resources Division.

[FR Doc. 02-8753 Filed 4-10-02; 8:45 am]

BILLING CODE 4410-15-M